DEPARTMENT OF COMMERCE

National Oceanic and Atmospheric Administration

[Docket No. 001027301-0301-01]

RIN 0648-ZA97

Sea Grant Industry Fellows Program: Request for Proposals for FY 2001

AGENCY: National Sea Grant College Program, National Oceanic and Atmospheric Administration, Department of Commerce.

ACTION: Notice of request for proposals.

SUMMARY: The purpose of this notice is to advise the public that the National Sea Grant College Program (Sea Grant) is entertaining proposals for the Industry Fellowship program to fulfill its broad educational responsibilities and to strengthen ties between academia and industry. With required matching funds from private industrial sponsors, Sea Grant expects to support five new Industry Fellows in FY 2001. Each fellow will be a graduate student selected through national competition, and will be known as a Company Name/Sea Grant Industry Fellow. Proposals must be submitted by academic institutions who have identified a graduate fellow and an industrial sponsor who will provide matching funds.

DATES: Proposals must be submitted before 5 pm (local time) on April 24, 2001 to a state Sea Grant Program office. Applications from non Sea Grant states, if submitted directly to the National Sea Grant Office, must be received by 5 pm (local time) on April 24, 2001.

ADDRESSES: Proposals originating from institutions in Sea grant states must be submitted through the state Sea Grant Program. Proposals originating elsewhere may be submitted either through the nearest Sea Grant Program or directly to the Program Manager at the National Sea Grant Office. The addresses of the Sea Grant College Program directors may be found on Sea Grant's home page (http://www.mdsg.umd.edu/NSGO/index.html) or may also be obtained by contacting the Program Manager at the National Sea Grant Office (see below).

FOR FURTHER INFORMATION CONTACT: Dr. Vijay G. Panchang, Program Manager, National Sea Grant College Program, ­R/SG, NOAA, 1315 East-West Highway, Silver Spring, MD 20910. Tel. (301) 713-2435 ext. 142; e-mail; Vijay.Panchang@noaa.gov.

SUPPLEMENTARY INFORMATION:

I. Program Authority

Authority: 33 U.S.C. 1127(a).

Catalog of Federal Domestic Assistance Number: 11. 417, Sea Grant Support.

II. Program Description

Background

Today's global economy is putting unprecedented demands on the U.S. industrial community for innovation and new technology. This situation presents challenges to industry and universities to develop new paradigms leading to more efficient utilization of available human, fiscal, and technical resources. This can be accomplished through the recruitment of graduates trained in technologies relevant to an industry's future and the creation of opportunities for collaboration between industrial and academic scientists and engineers. Academically well-trained students with exposure to advanced industrial issues constitute a critical component of success in that endeavor.

To strengthen ties between academia and industry, Sea Grant developed the industry Fellows Program in 1995. With required matching funds from private industrial sponsors, Sea Grant expects to support five new Industry Fellows in FY 2001. Each fellow will be a graduate student selected through national competition, and will be known as a Company Name/Sea Grant Industry Fellow.

Fellowship Program Objectives

The goals of the program are: to enhance the education and training provided to top graduate students in U.S. colleges and universities; to provide real-world experience of industrial issues to graduate students and to accelerate their career development; to increase interactions between the nation's top scientists and engineers and their industrial counterparts; to accelerate the exchange of information and technologies between universities and industry; to provide a mechanism for industry to influence Sea Grant research priorities and solve problems of importance to industry; and to forge long-term relationships between Sea Grant colleges and industrial firms.

Program Description

The Sea Grant Industry Fellows Program provides, in cooperation with specific companies, support for highly-qualified graduate students who are pursuing research and development projects on topics of interest to a particular industry/company. In a true partnership, the student, the faculty advisor, the Sea Grant college or institute, and the industry representative work together on a project from beginning to end. Research facilities and the cost of the activity are shared. University faculty are the major source for identifying potential industrial collaborators and suitable research topics. However, other sources can be used to identify potential industrial partners including the Sea Grant Marine Advisory Services, university industrial relations offices, and the Sea Grant Review Panel. Sea Grant directors are encouraged to use a variety of sources in building successful partnerships with industry.

III. Eligibility

Proposals must be prepared by individuals affiliated with institutions of higher education in the United States. If the institution is in one of the 29 Sea Grant states, then the proposal must be submitted to the state's Sea Grant College Program, who will submit the final grant application to the National Sea Grant Office. If the institution is in a state with no Sea Grant College Program, applications may be submitted to the nearest state Sea Grant College Program who will then submit the final grant application to the National Sea Grant Office, or the institution may submit the application directly to the National Sea Grant Office.

IV. Evaluation Criteria

The evaluation criteria for proposals submitted for support under the Sea Grant Industry Fellows Program are:

A. the importance of the problem and the benefits expected to the industrial partner and the nation due to the advancement of technology (25%).

B. The benefit accruing to the student from his or her participation as a Sea Grant Industry Fellow, including exposure to industrial methods and mentoring by the industrial partner (25%).

C. The level of commitment of the industrial partner to the project, particularly student stipend support (25%).

D. The caliber of the proposed Fellow, including special skills, past experiences, or training that render him/her especially qualified for the proposed project. Participation by the Fellow in proposal preparation will be viewed favorably (25%).

V. Selection Procedures

Individual state Sea Grant Programs receiving proposals will conduct the mail peer review of the proposed projects in accordance with the Evaluation Criteria listed above. Complete proposals and copies of the mail reviews will be sent by the state Sea Grant programs to the National Sea Grant Office. The National Sea Grant Office will conduct mail reviews for proposals submitted directly to it by institutions not in Sea Grant states. The applications will be ranked in accordance with the assigned weights of the above evaluation criteria by an independent peer review panel consisting of government, academic, and industry experts with particular expertise in industry/academic interactions. These panel members will provide individual evaluations on each proposal; thus there will be no consensus advice. Their recommendations and evaluations will be considered by the National Sea Grant Office in the final selection. Only those proposals awarded a minimum score of 50% by the panel will be eligible for funding. For those proposals, the National Sea Grant Office will: (a) Ascertain which proposals best meet the program objectives (stated in Section II), and do not substantially duplicate other projects that are currently funded or are approved for funding by NOAA and other federal agencies, hence, awards may not necessarily be made to the highest-scored proposals; (b) select the proposals to be funded; (c) determine which components of the selected projects will be funded; (d) determine the total duration of funding for each proposal; and (e) determine the amount of funds available for each proposal. Investigators may be asked to modify objectives, work plans, or budgets prior to final approval of the award. Subsequent grant administration procedures will be in accordance with current NOAA grants procedures. A summary statement of the scientific review by the peer panel will be provided to each applicant.

VI. Instructions for Application

Timetable

April 24, 2001, 5 pm (local time)—Proposals due at state Sea Grant Program or at NSGO if application is being submitted by a non Sea Grant College Program.

May 1, 2001, 5 pm (local time)—Proposals received at state Sea Grant Programs due at NSGO.

September 1, 2001 (approximate)—Funds awarded to selected recipients; projects begin.

General Guidelines

Interested members of institutions of higher education in the United States may submit a proposal (See Section III, Eligibility) for a grant to support up to two-thirds of the total budget. The fellowship can be for a maximum of two years, though funding will be in annual increments. No more than $30,000 of federal funds may be requested per year. Indirect costs on federal funds are limited to 10 percent of total modified direct costs. The proposal must include a written matching commitment, equal to at least half the federal request, from the industrial partner to support the budget for the proposed project. Allocation of matching funds must be specified in the budget. Use of the industrial matching funds for student stipend support will be looked on favorably. (See criterion C. under Section IV, Evaluation Criteria.)

The budget should include adequate travel funds for the student, the industrial mentor, and the faculty advisor to meet at least twice per year during the fellowship period, preferably at the site of the industrial partner. The budget may also include up to one month of salary of stipend support for one project participant in addition to the selected Fellow who are affiliated to the academic institution. The selected Fellow may not be changed during the grant period. If the selected Fellow is no longer enrolled as a graduate student but continues to work on the project under the supervision of the grantee institution, federal funds may be used for the Fellow's support for no longer than three months beyond the date on which the Fellow's student status expires. This three-month latitude is meant to enable suitable conclusion of the ongoing phase of work. In other respects, the Fellow will be governed by the institution's rules for graduate research assistants.

Proposal Guidelines

Each full proposal should include the items listed below. All pages should be single- or double-spaced, typewritten in at least 10-point font, and printed on metric A4 (210 mm × 297 mm) or 8½ × 11″ paper. Brevity all assist reviewers and program staff in dealing effectively with proposals. Therefore, the Project Description may not exceed 10 pages. Tables and visual materials, including charts, graphs, maps, photographs and other pictorial presentation are included in the 10-page limit; literature citations are not included in the 10-page limit. Conformance to the 10-page limit will be strictly enforced. All information needed for review of the proposal should be included in the main text; no appendices are permitted.

(1) Signed Title Page: The title page should be signed by the Principal Investigator and the institutional representative and should clearly identify the program area being addressed by starting the project title with “Sea Grant Industry Fellow.” The Principal Investigator and institutional representative should be identified by full name, title, organization, telephone number and address. The total amount of Federal funds and matching funds being requested should be listed for each budget period.

(2) Project Summary: This information is very important. Prior to attending the peer review panel meetings, some of the panelists may read only the project summary. Therefore, it is critical that the project summary accurately describe the research being proposed and convey all essential elements of the research. The project summary should include: 1. Title: Use the exact title as it appears in the rest of the application. 2. Investigators: List the names and affiliations of each investigator who will significantly contribute to the project. Start with the Principal Investigator. 3. Funding request for each year of the project, including matching funding if appropriate. 4. Project Period: Start and completion dates. Proposal should request a start date of September 1, 2001. 5. Project Summary: This should include the rationale for the project, the scientific or technical objectives and/or hypotheses to be tested, and a brief summary of work to be completed.

(3) Project Description: (10-page limit):

(a) Introduction/Background/Justification: What is the problem being addressed and what is its scientific and economic importance to the advancement of technology, to the cooperating industrial partner, and to the region or nation?

(b) Research or Technical Plan: What are the goals, objectives, and anticipated approach of the proposed project? While a detailed work plan is not expected, the proposal should present evidence that there has been thoughtful consideration of the approach of the problem under study. What capabilities does the industrial partner possess that will benefit the Fellow?

(c) Output/Anticipated Economic Benefits: Upon successful completion of the project, what are the anticipated benefits to the student, the industrial partner, the university and its faculty, the sponsoring Sea Grant program, and the nation?

(d) References and Literature Citations: Should be included but will not be counted in the 10 page project description limit.

(4) Budget and Budget Justification: There should be a separate budget for each year of the project as well as a cumulative annual budget for the entire project. Applicants are encouraged to use the Sea Grant Budget Form 90-4, but may use their own form as long as it provides the same information as the Sea Grant form. Subcontractors should have a separate budget page. Matching funds must be indicated; failure to provide adequate matching funds will result in the proposal being rejected without review. Each annual budget should include a separate budget justification page that itemizes all budget items in sufficient detail to enable reviewers to evaluate the appropriateness of the funding requested. Please pay special attention to any travel, supply or equipment budgets and provide details. The total dollar amount or indirect costs must not exceed 10 percent of the total proposed direct costs dollar amount in the application.

(5) Current and Pending Support: Applicants must provide information on all current and pending Federal support for ongoing projects and proposals, including subsequent funding in the case of continuing grants. The proposed project and all other projects or activities using Federal assistance and requiring a portion of time of the principal investigator or other senior personnel should be included. The relationship between the proposed project and these other projects should be described, and the number of person-months per year to be devoted to the projects must be stated.

(6) Vitae of the student, the faculty advisor, and the company-appointed research mentor (2 pages maximum per investigator).

(7) Letter of commitment from the industrial partner.

(8) A brief (one-page) description of the collaborating industrial firm.

(9) Proposers are encouraged (but not required) to include a separate page suggesting reviewers that the proposers believe are especially well qualified to review the proposal. Proposers may also designate persons they would prefer not review the proposal, indicating why. These suggestions will be considered during the review process.

(10) Standard Application Forms: Applicants may obtain all required application forms through the World Wide Web at http://www.mdsg.umd.edu/NSGO/research/rfp/index.html, from the state Sea Grant Programs or from Dr. Vijay Panchang at the National Sea Grant Office (phone: 301-713-2435 x142 or e-mail: vijay.panchang@noaa.gov). The following forms must be included:

(a) Standard Forms 424, Application for Federal Assistance, 424A, Budget Information—Non-Construction Programs; and 424B, Assurances—Non-Construction Programs, (Rev 4-88). Please note that both the Principal Investigator and an administrative contact should be identified in Section 5 of the SF424. For Section 10, applicants should enter “11.417” for the CFDA Number and “Sea Grant Support” for the title. The form must contain the original signature of an authorized representative of the applying institution.

(b) Primary Applicant Certifications. All primary applicants must submit a completed Form CD-511, “Certifications Regarding Debarment, Suspension and Other Responsibility Matters; Drug-Free Workplace Requirements and Lobbying,” and the following explanations are hereby provided:

(i) Nonprocurement Debarment and Suspension. Prospective participants (as defined at 15 CFR part 26, section 105) are subject to 15 CFR part 26, “Nonprocurement Debarment and Suspension” and the related section of the certification form prescribed above applies;

(ii) Drug-Free Workplace. Grantees (as defined at 15 CFR part 26, section 605) are subject to 15 CFR part 26, subpart F, “Government-wide Requirements for Drug-Free Workplace (Grants)” and the related section of the certification form prescribed above applies;

(iii) Anti-Lobbying. Persons (as defined at 15 CFR part 28, section 105) are subject to the lobbying provisions of 31 U.S.C. 1352, “Limitation on use of appropriated funds to influence certain Federal contracting and financial transactions,” and the lobbying section of the certification form prescribed above applies to applications/bids for grants, cooperative agreements, and contracts for more than $100,000, and loans and loan guarantees for more than $150,000; and

(iv) Anti-Lobbying Disclosures. Any applicant that has paid or will pay for lobbying using any funds must submit an SF-LLL, “Disclosure of Lobbying Activities,” as required under 15 CFR part 28, appendix B.

(c) Lower Tier Certifications. Recipients shall require applicants/bidders for subgrants, contracts, subcontracts, or other lower tier covered transactions at any tier under the award to submit, if applicable, a completed Form CD-512, “Certifications Regarding Debarment, Suspension, Ineligibility and Voluntary Exclusion-Lower Tier Covered Transactions and Lobbying” and disclosure form, SF-LLL, “Disclosure of Lobbying Activities.” Form CD-512 is intended for the use of recipients and should not be transmitted to the Department of Commerce (DOC). SF-LLL submitted by any tier recipient or subrecipient should be submitted to DOC in accordance with the instructions contained in the award document.

VII. How To Submit

Preliminary proposals and proposals must be submitted to the state Sea Grant Programs or to the NSGO according to the schedule outlined above (See “Addresses” and “Timetable”). Although investigators are not required to submit more than 3 copies of the proposal, the normal review process requires 10 copies. Investigators are encouraged to submit sufficient proposal copies for the full review process if they wish all reviewers to receive color, unusually sized (not 8.5″ x 11″), or otherwise unusual materials submitted as part of the proposal. Only three copies of the Federally required forms are needed. The addresses of the Sea Grant College Program directors may be found on Sea Grant's World Wide Web home page (http://www.mdsg.umd.edu/NSGO/index.html) or may also be obtained by contacting the Program Manager, Dr. Vijay Panchang, at the National Sea Grant Office (phone: 301-713-2435 x142 or e-mail: vijay.panchang@noaa.gov). Proposals sent to the National Sea Grant Office should be addressed to: National Sea Grant Office, R/SG, Attn: Sea Grant Industry Fellows Program Coordinator, NOAA, Room 11828, 1315 East-West Highway, Silver Spring, MD 20910 (phone 301-713-2435 for express mail applications).

Applications received after the deadline and applications that deviate from the format described above will be returned to the sender without review. Facsimile transmissions and electronic mail submission of applications will not be accepted.

VIII. Other Requirements

(A) Federal Policies and Procedures—Recipients and subrecipients are subject to all Federal laws and Federal and Department of Commerce (DOC) policies, regulations, and procedures applicable to Federal financial assistance awards.

(B) Past Performance—Unsatisfactory performance under prior Federal awards may result in an application not being considered for funding.

(C) Preaward Activities—If applicants incur any costs prior to an award being made, they do so solely at their own risk of not being reimbursed by the Government. Notwithstanding any verbal or written assurance that may have been received, there is no obligation on the part of DOC to cover preaward costs.

(D) No Obligation for Future Funding—If an application is selected for funding, DOC has no obligation to provide any additional future funding in connection with that award. Renewal of an award to increase funding or extend the period of performance is at the total discretion of DOC.

(E) Delinquent Federal Debts—No award of Federal funds shall be made to an applicant who has an outstanding delinquent Federal debt until either:

(1) The delinquent account is paid in full,

(2) A negotiated repayment schedule is established and at least one payment is received, or

(3) Other arrangements satisfactory to DOC are made.

(F) Name Check Review—All non-profit and for-profit applicants are subject to a name check review process. Name checks are intended to reveal if any key individuals associated with the applicant have been convicted of or are presently facing criminal charges such as fraud, theft, perjury, or other matters which significantly reflect on the applicant's management honesty or financial integrity.

(G) False Statements—A false statement on an application is grounds for denial or termination of funds and grounds for possible punishment by a fine or imprisonment as provided in 18 U.S.C. 1001.

(H) Intergovernmental Review—Applications for support from the National Sea Grant College Program are not subject to Executive Order 12372, “Intergovernmental Review of Federal Programs.

(I) Purchase of American-Made Equipment and Products—Applicants are hereby notified that they will be encouraged to the greatest extent practicable, to purchase American-made equipment and products with funding provided under this program.

Classification

Prior notice and an opportunity for public comments are not required by the Administrative Procedure Act or any other law for this notice concerning grants, benefits, and contracts. Therefore, a regulatory flexibility analysis is not required for purposes of the Regulatory Flexibility Act.

This action has been determined to be not significant for purpose of E.O. 12866.

This notice contains collection-of-information requirements subject to the Paperwork Reduction Act. The Sea Grant Project Summary Form and the Sea Grant Budget Form have been approved under Office of Management and Budget (OMB) Control Number 0648-0362, with estimated times per response of 20 and 15 minutes respectively. The use of Standard Forms 424, 424A, 424B, and SF-LLL have been approved by OMB under the respective control numbers 0348-0043, 0348-0044, 0348-0040, and 0348-0046. The response time estimates above include the time for reviewing instructions, searching existing data sources, gathering and maintaining the data needed, and completing and reviewing the collection of information. Send comments on these estimates or any other aspect of these collections to National Sea Grant Office/NOAA, 1315 East-West Highway, Silver Spring, MD 20910 and to the Office of Information and Regulatory Affairs, Office of Management and Budget, Washington, DC 20503 (Attention: NOAA Desk Officer). Notwithstanding any other provision of the law, no person is required to respond to, nor shall any person be subject to a penalty for failure to comply with, a collection of information subject to the requirements of the Paperwork Reduction Act, unless that collection of information displays a currently valid OMB Control Number.

Dated: December 20, 2000.
David L. Evans,
Assistant Administrator, Office of Oceanic and Atmospheric Research, National Oceanic and Atmospheric Administration.

[FR Doc. 00-32998 Filed 12-26-00; 8:45 am]

BILLING CODE 3510-KA-M